DEPARTMENT OF HEALTH AND HUMAN SERVICES

Announcing Solicitation of Written Comments and Call for Nominations To Inform Development of the Physical Activity Guidelines Midcourse Report on Older Adults

AGENCY: Department of Health and Human Services, Office of the Secretary, Office of the Assistant Secretary for Health, Office of Disease Prevention and Health Promotion.

ACTION: Notice.

SUMMARY: The U.S. Department of Health and Human Services (HHS) seeks public input in two forms: (1) Written comments to help inform the scope and development of the Physical Activity Guidelines (PAG) Midcourse Report on older adults and (2) nominations of qualified candidates to support the development of the report through systematic review of the scientific literature related to physical activity and older adults.

DATES: Written comments and nominations will be accepted through 11:59 p.m. E.T. on December 8, 2021.

ADDRESSES: Written comments and nominations should be submitted by email to PAGReviews@hhs.gov.

FOR FURTHER INFORMATION CONTACT: Katrina L. Piercy, Ph.D., R.D., Office of Disease Prevention and Health Promotion (ODPHP), Office of the Assistant Secretary for Health (OASH), HHS; 1101 Wootton Parkway, Suite 420; Rockville, MD 20852; Telephone: (240) 453-8280.

SUPPLEMENTARY INFORMATION: The Physical Activity Guidelines for Americans (PAG) provides science-based recommendations on how physical activity can help promote health and reduce the risk of chronic disease. The PAG serves as the benchmark and primary, authoritative voice of the federal government for providing science-based guidance on physical activity, fitness, and health in the United States. The U.S. Department of Health and Human Services (HHS) released the first edition in 2008 and the second edition in 2018. In 2013, HHS released a midcourse report highlighting strategies to increase physical activity among youth. The PAG and related reports are available at www.health.gov/paguidelines. The Office of Disease Prevention and Health Promotion (ODPHP), in collaboration with the Centers for Disease Control and Prevention (CDC), the National Institutes of Health (NIH), and the President's Council on Sports, Fitness & Nutrition (PCSFN), intends to develop a midcourse report for release in 2023. A subcommittee of the PCSFN will be convened to conduct a literature review and summarize findings which will support the development of the midcourse report.

The midcourse report will further reinforce and disseminate the PAG and the importance of regular physical activity. Despite the many benefits of physical activity for older adults, only 13.9% of adults over age 65 meet the aerobic and muscle-strengthening key guidelines (2018 data from National Health Interview Survey). Therefore, the next PAG Midcourse Report will focus on how to increase physical activity levels among older adults.

Overview: The PAG Midcourse Report will use the strong science base from the PAG published in 2018, which details the amounts and types of physical activity needed for a variety of short- and long-term benefits for older adults (see https://health.gov/PAguidelines) and the World Health Organization review of effective interventions for older adults (see https://ijbnpa.biomedcentral.com/articles/10.1186/s12966-021-01140-9). This midcourse report seeks to:

1. Highlight key components of intervention strategies that have been shown to be effective in increasing physical activity levels among older adults.

2. Identify settings where physical activity messaging/encouragement would be relevant to older adults.

3. Highlight policy, systems, and environmental interventions particularly important to this population to increase physical activity.

4. Summarize effective strategies to overcome barriers and limitations to implementing the above interventions, including (where evidence is available):

a. Emphasize equity and reduce disparities in participation, including among individuals with disabilities and individuals of racial/ethnic groups.

b. Highlight strategies to bolster mental health, build resilience, or enhance social connectedness.

Written comments: Based on the above outline, HHS requests input on how this midcourse report can best support decision makers, health professionals, educators, and others working to promote or implement physical activity among older adults in a variety of settings. For example, (1) are there other related areas this report should address that would inform and guide your work with this population? and (2) What information or knowledge gaps do you experience in your work that could be supported by a midcourse report? Comments will be accepted via email to PAGReviews@hhs.gov until 11:59 p.m. E.T. on December 8, 2021. HHS may contact respondents regarding their submissions to ask for clarification if needed.

Role of the Subcommittee: The subcommittee will work with a literature review team to review the evidence on effective strategies to achieve the PAG among older adults (aerobic, muscle-strengthening, balance, multicomponent). The subcommittee will be tasked to evaluate the scientific literature, grade the evidence, and summarize the science related to strategies to increase physical activity among older adults and to identify research gaps. The subcommittee will deliver its findings in a written report to the PCSFN for discussion and deliberation. The federal steering committee will use the report to inform the PAG Midcourse Report. The subcommittee is expected to be engaged throughout calendar year 2022, primarily through video and/or phone meetings.

Nominations for the Subcommittee: HHS will consider nominations, including self-nominations, for individuals qualified to carry out the above-mentioned tasks. Nominees must have an advanced degree and expertise reviewing scientific literature in the fields of physical activity, health promotion/disease prevention, gerontology/aging, public health, built environment/community design, health policy, psychology, and/or implementation science. Nominees must also currently reside in the United States. The following information should be included in the package of material submitted for each individual being nominated for consideration: (1) The name, address, daytime telephone number, and email address of the nominator and the individual being nominated; (2) a letter of nomination that clearly states the name and affiliation of the nominee, the basis for the nomination (i.e., specific attributes which qualify the nominee for service in this capacity), and a statement from the nominee that the nominee is willing to serve on a subcommittee to support development of the PAG Midcourse Report; and (3) a current copy of the nominee's curriculum vitae (CV) no more than 10 pages in length. Inclusion of the following is requested in the CV: (1) Current position, (2) current and/or past grant awards, (3) publications showing breadth and experience in areas of specialization, (4) paid and non-paid board and advisory appointments, and (5) education and occupational history.

All nominations must include the required information. Incomplete nominations will not be processed for consideration. All nomination information should be sent in a single email, with attachments, to PAGReviews@hhs.gov. All nominations must be submitted by 11:59 p.m. E.T. on December 8, 2021.

Equal opportunity practices regarding acceptance to this committee will be aligned with HHS policies. When possible, every effort will be made to ensure that the committee includes a diverse group of individuals with representation from various geographic locations, racial and ethnic minorities, all genders, and persons with disabilities. Individuals will be selected to represent balanced viewpoints of the scientific evidence, not to represent the viewpoints of any specific group.

Paul Reed,
Deputy Assistant Secretary for Health, RADM, U.S. Public Health Service, Office of Disease Prevention and Health Promotion.

[FR Doc. 2021-24359 Filed 11-5-21; 8:45 am]

BILLING CODE 4150-32-P